DEPARTMENT OF ENERGY

Federal Energy Regulatory Commission

Combined Notice of Filings #1

Take notice that the Commission received the following electric corporate filings:

Docket Numbers: EC14-99-000.

Applicants: Catalina Solar Lessee, LLC.

Description: Application for Authorization under Section 203 of the Federal Power Act and Requests for Waivers, Confidential Treatment and Expedited Consideration of Catalina Solar Lessee, LLC.

Filed Date: 6/3/14.

Accession Number: 20140603-5170.

Comments Due: 5 p.m. ET 6/24/14.

Take notice that the Commission received the following exempt wholesale generator filings:

Docket Numbers: EG14-60-000.

Applicants: Beebe 1B Renewable Energy, LLC.

Description: Notice of Self-Certification of Exempt Wholesale Generator Status of Beebe 1B Renewable Energy, LLC.

Filed Date: 6/3/14.

Accession Number: 20140603-5166.

Comments Due: 5 p.m. ET 6/24/14.

Take notice that the Commission received the following electric rate filings:

Docket Numbers: ER10-2564-003; ER10-2600-003; ER10-2289-003.

Applicants: UNS Electric, Inc., Tucson Electric Power Company, UniSource Energy Development Company.

Description: Errata to January 21, 2014 and February 7, 2014 Notice of Change in Status of Tucson Electric Power Company, et al.

Filed Date: 6/3/14.

Accession Number: 20140603-5096.

Comments Due: 5 p.m. ET 6/24/14.

Docket Numbers: ER13-187-005.

Applicants: Midcontinent Independent System Operator, Inc.

Description: 2014-06-04_Order 1000 Regional Compliance Part 1 to be effective 6/1/2013.

Filed Date: 6/4/14.

Accession Number: 20140604-5088.

Comments Due: 5 p.m. ET 7/7/14.

Docket Numbers: ER13-187-006.

Applicants: Midcontinent Independent System Operator, Inc.

Description: 2014-06-04_Order 1000 Regional Compliance Filing Part 1(2) to be effective 6/1/2013.

Filed Date: 6/4/14.

Accession Number: 20140604-5125.

Comments Due: 5 p.m. ET 7/7/14.

Docket Numbers: ER14-7-000.

Applicants: American Electric Power Service Corporation.

Description: Refund Report to be effective N/A.

Filed Date: 6/4/14.

Accession Number: 20140604-5121.

Comments Due: 5 p.m. ET 6/25/14.

Docket Numbers: ER14-1455-001.

Applicants: San Diego Gas & Electric Company.

Description: SDGE Generator Interconnection Procedures Compliance Filing to be effective 5/6/2014.

Filed Date: 6/4/14.

Accession Number: 20140604-5126.

Comments Due: 5 p.m. ET 6/25/14.

Docket Numbers: ER14-1735-001.

Applicants: New York Independent System Operator, Inc.

Description: NYISO compliance filing re: 2 week notification of effective date to be effective 6/18/2014.

Filed Date: 6/4/14.

Accession Number: 20140604-5118.

Comments Due: 5 p.m. ET 6/25/14.

Docket Numbers: ER14-1781-001.

Applicants: PJM Interconnection, L.L.C.

Description: Non-Queue No. NQ89; Substitute Original Service Agreement No. 3808 to be effective 5/6/2017.

Filed Date: 6/4/14.

Accession Number: 20140604-5061.

Comments Due: 5 p.m. ET 6/25/14.

Docket Numbers: ER14-1850-000; ER14-1852-000; ER14-1853-000; ER14-1854-000; ER14-1855-000; ER14-1856-000; ER14-1867-000; ER14-1869-000; ER14-1870-000; ER14-1871-000; ER14-1902-000; ER14-1909-000; ER14-1910-000; ER14-1915-000; ER14-1916-000; ER14-1917-000; ER14-1918-000; ER14-1919-000; ER14-1929-000; ER14-1930-000; ER14-1932-000.

Applicants: NRG Sterlington Power LLC, Louisiana Generating LLC, Cottonwood Energy Company LP, Big Cajun I Peaking Power LLC, North Community Turbines LLC, North Wind Turbines LLC, Larswind, LLC, Lookout WindPower LLC, Pinnacle Wind, LLC, Sierra Wind, LLC, Bendwind, LLC, Storm Lake Power Partners I LLC, TAIR Windfarm, LLC, Bayou Cove Peaking Power, LLC, Forward WindPower LLC, Groen Wind, LLC, Hillcrest Wind, LLC, Jeffers Wind 20, LLC, DeGreeff DP, LLC, DeGreeffpa, LLC, GenOn Mid-Atlantic, LLC.

Description: Amendment to May 1, 2014 through May 9, 2014 NRG Sterlington Power LLC, et al. tariff filing(s).

Filed Date: 6/4/14.

Accession Number: 20140604-5115.

Comments Due: 5 p.m. ET 6/25/14.

Docket Numbers: ER14-1912-000.

Applicants: Midcontinent Independent System Operator, Inc.

Description: Amendment to May 7, 2014 Request for limited, one-time waiver of certain provisions of its Open Access Transmission, Energy and Operating Reserve Markets Tariff of Midcontinent Independent System Operator, Inc.

Filed Date: 6/4/14.

Accession Number: 20140604-5116.

Comments Due: 5 p.m. ET 6/18/14.

Docket Numbers: ER14-2057-000.

Applicants: San Diego Gas & Electric Company.

Description: Informational Filing of Third Annual Transmission Rate of San Diego Gas & Electric Company.

Filed Date: 5/28/14.

Accession Number: 20140528-5218.

Comments Due: 5 p.m. ET 6/18/14.

Docket Numbers: ER14-2113-000.

Applicants: Midcontinent Independent System Operator, Inc.

Description: 2014-06-03 Docket No. ER14-2113-000 Interzonal Resource Replacement Filing to be effective 8/2/2014.

Filed Date: 6/3/14.

Accession Number: 20140603-5082.

Comments Due: 5 p.m. ET 6/24/14.

Docket Numbers: ER14-2114-000.

Applicants: PJM Interconnection, L.L.C.

Description: Second Revised Service Agreement No. 2922; Queue No. W2-090 to be effective 5/8/2014.

Filed Date: 6/3/14.

Accession Number: 20140603-5083.

Comments Due: 5 p.m. ET 6/24/14.

Docket Numbers: ER14-2115-000.

Applicants: PJM Interconnection, L.L.C.

Description: PJM Interconnection, L.L.C. submits tariff filing per 35.13(a)(2)(iii: Original Service Agreement No. 3837; Queue No. X4-048 to be effective 5/6/2014.

Filed Date: 6/3/14.

Accession Number: 20140603-5110.

Comments Due: 5 p.m. ET 6/24/14.

Docket Numbers: ER14-2116-000.

Applicants: PJM Interconnection, L.L.C.

Description: Original Service Agreement No. 3872; Queue No. X4-039 to be effective 5/8/2014.

Filed Date: 6/3/14.

Accession Number: 20140603-5128.

Comments Due: 5 p.m. ET 6/24/14.

Docket Numbers: ER14-2117-000.

Applicants: Spindle Hill Energy LLC.

Description: Revised Market-Based Rate Tariff Filing to be effective 8/3/2014.

Filed Date: 6/3/14.

Accession Number: 20140603-5129.

Comments Due: 5 p.m. ET 6/24/14.

Docket Numbers: ER14-2118-000.

Applicants: Pheasant Run Wind II, LLC.

Description: Notice of Cancellation of MBR Tariff to be effective 6/5/2014.

Filed Date: 6/4/14.

Accession Number: 20140604-5087.

Comments Due: 5 p.m. ET 6/25/14.

Docket Numbers: ER14-2119-000.

Applicants: Calpine Energy Services, L.P.

Description: Revised Market-Based Rate Tariff to be effective 6/5/2014.

Filed Date: 6/4/14.

Accession Number: 20140604-5123.

Comments Due: 5 p.m. ET 6/25/14.

Take notice that the Commission received the following foreign utility company status filings:

Docket Numbers: FC14-14-000.

Applicants: Enbridge Inc.

Description: Self-Certification of Enbridge Inc.

Filed Date: 6/3/14.

Accession Number: 20140603-5069.

Comments Due: 5 p.m. ET 6/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2014.
Nathaniel J. Davis, Sr.,
Deputy Secretary.

[FR Doc. 2014-13668 Filed 6-11-14; 8:45 am]

BILLING CODE 6717-01-P